DEPARTMENT OF COMMERCE

International Trade Administration

C-507-601

Certain In-Shell Roasted Pistachios from the Islamic Republic of Iran: Extension of Time Limit for Preliminary Results of Countervailing Duty Administrative Review

AGENCY: Import Administration, International Trade Administration, Department of Commerce.

EFFECTIVE DATE: April 29, 2005.

FOR FURTHER INFORMATION CONTACT: Darla Brown, AD/CVD Operations, Office 3, Import Administration, U.S. Department of Commerce, Room 4014, 14th Street and Constitution Avenue NW, Washington, DC 20230; telephone (202) 482-2786.

SUPPLEMENTARY INFORMATION:

TIME LIMITS:

Background

On October 7, 1986, the Department of Commerce (the Department) published in the Federal Register the countervailing duty order on roasted in-shell pistachios from the Islamic Republic of Iran (Iran) (51 FR 35679). On October 1, 2004, the Department published in the Federal Register a notice of opportunity to request an administrative review of the countervailing duty order on roasted in-shell pistachios from Iran (69 FR 58889). As a result of a request properly filed by Tehran Negah Nima Trading Company, Inc. (Nima) on October 27, 2004, we are conducting an administrative review of the countervailing duty order on roasted in-shell pistachios from Iran with respect to Nima. On November 19, 2004, we published in the Federal Register the initiation of this countervailing duty administrative review (69 FR 67701). The preliminary results are currently due no later than July 5, 2005.

Extension of Time Limit for Preliminary Results of Review

Section 751(a)(3)(A) of the Tariff Act of 1930, as amended (the Act), requires the Department to issue preliminary results within 245 days after the last day of the anniversary month of an order for which a review is requested. However, if it is not practicable to complete the preliminary results of review within this time period, section 751(a)(3)(A) of the Act allows the Department to extend the time limit for the preliminary results to a maximum of 365 days.

We determine that this review is extraordinarily complicated because there are a large number of programs, including new subsidy programs, to be considered and analyzed by the Department. In order to complete our analysis, we require additional and/or clarifying information. As a result, it is not practicable to complete the preliminary results of this review within the original time limits. Therefore, the Department is extending the time limits for completion of the preliminary results until no later than November 2, 2005, which is 365 days from the last day of the anniversary month of the date of publication of the order. The deadline for the final results of review continues to be 120 days after the publication of the preliminary results.

This notice is issued and published in accordance with section 751(a)(3)(A) of the Act.

Dated: April 25, 2005.
Barbara E. Tillman,
Deputy Assistant Secretary for Import Administration.

[FR Doc. E5-2059 Filed 4-28-05; 8:45 am]

BILLING CODE 3510-DS-S